NUCLEAR REGULATORY COMMISSION

Sunshine Federal Register Notice

DATES: Weeks of December 20, 27, 2004, January 3, 10, 17, 24, 2005.

PLACE: Commissioners' Conference Room, 11555 Rockville Pike, Rockville, Maryland.

STATUS: Public and closed.

MATTERS TO BE CONSIDERED:

Week of December 20, 2004

There are no meetings scheduled for the week of December 20, 2004.

Week of December 27, 2004—Tentative

There are no meetings scheduled for the week of December 27, 2004.

Week of January 3, 2005—Tentative

Wednesday, January 5, 2005

2 p.m. Affirmation Session (Public Meeting) (Tentative).

a. Private Fuel Storage (Independent Spent Fuel Storage Installation); Docket No. 72-22-ISFSI (Tentative).

Week of January 10, 2005—Tentative

Tuesday, January 11, 2005

9:30 a.m. Discussion of Security Issues (Closed—Ex. 1 & 9).

Week of January 17, 2005—Tentative

There are no meetings scheduled for the week of January 17, 2005.

Week of January 24, 2005—Tentative

Monday, January 24, 2005

9:30 a.m. Discussion of Security Issues (Closed—Ex. 1).

1:30 p.m. Briefing on Human Capital Initiatives (Closed—Ex. 2).

Tuesday, January 25, 2005

9:30 a.m. Discussion of Security Issues (Closed—Ex. 1).

* The Schedule for Commission meetings is subject to change on short notice. To verify the status of meetings call (recording)—(301) 415-1292. Contact person for more information: Dave Gamberoni, (301) 415-1651.

* * * * *

SUPPLEMENTARY INFORMATION: By a vote of 3-0 on December 9 and 10, the Commission determined pursuant to U.S.C. 552b(e) and § 9.107(a) of the Commission's rules that “Affirmation of (a) HYDRO RESOURCES, INC. Petition for Review of LBP-04-23 (Final Environmental Impact Statement Supplementation), (b) STATE OF ALASKA DEPARTMENT OF TRANSPORTATION AND PUBLIC FACILITIES (Confirmatory Order Modifying License); Intervenor's Motion for Reconsideration of CLI-04-26, and (c) Final Amendments to 10 CFR Part 50, Appendix E, Relating to (1) Nuclear Regulatory Commission Review of Changes to Emergency Action Levels, Paragraph IV.B and (2) Exercise Requirements for Co-Located Licensees, Paragraph IV.F.2” be held December 14, and on less than one week's notice to the public.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g., braille, large print), please notify the NRC's Disability Program Coordinator, August Spector, at (301) 415-7080, TDD: (301) 415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301) 415-1969). In addition, distribution of this meeting notice over the Internet system is available. If you are interested in receiving this Commission meeting schedule electronically, please send an electronic message to dkw@nrc.gov.

Dated: December 15, 2004.
Dave Gamberoni,
Office of the Secretary.

[FR Doc. 04-27843 Filed 12-16-04; 9:38 am]

BILLING CODE 7590-01-M